ENVIRONMENTAL PROTECTION AGENCY

40 CFR Part 52

[EPA-R06-OAR-2008-0727; FRL-9493-8]

Extension of Public Comment Period for Proposed Action on Arkansas Regional Haze State Implementation Plan and Interstate Transport State Implementation Plan To Address Pollution Affecting Visibility and Regional Haze

AGENCY: Environmental Protection Agency (EPA).

ACTION: Proposed rule; extension of comment period.

SUMMARY: On October 17, 2011, EPA published in the Federal Register a proposed rule proposing to partially approve and partially disapprove the Arkansas Regional Haze (RH) State Implementation Plan (SIP) and to partially approve and partially disapprove Arkansas' Interstate Transport SIP to address pollution affecting visibility, and requested comment by November 16, 2011. EPA is extending the public comment period for the proposed rule until December 22, 2011.

DATES: Comments must be received on or before December 22, 2011.

ADDRESSES: Submit your comments, identified by Docket No. EPA-R06-OAR-2008-0727, by one of the following methods:

• Federal e-Rulemaking Portal: http://www.regulations.gov. Follow the online instructions for submitting comments.

• EPA Region 6 “Contact Us” Web site: http://epa.gov/region6/r6comment.htm. Please click on “6PD (Multimedia)” and select “Air” before submitting comments.

• Email: Mr. Guy Donaldson at donaldson.guy@epa.gov. Please also send a copy by email to the person listed in the FOR FURTHER INFORMATION CONTACT section below.

• Fax: Mr. Guy Donaldson, Chief, Air Planning Section (6PD-L), at fax number (214) 665-7263.

• Mail: Mr. Guy Donaldson, Chief, Air Planning Section (6PD-L), Environmental Protection Agency, 1445 Ross Avenue Suite 1200, Dallas, Texas 75202-2733.

• Mr. Guy Donaldson, Chief, Air Planning Section (6PD-L), Environmental Protection Agency, 1445 Ross Avenue, Suite 1200, Dallas, Texas 75202-2733. Such deliveries are accepted only between the hours of 8 a.m. and 4 p.m. weekdays, and not on legal holidays. Special arrangements should be made for deliveries of boxed information.

Instructions: Direct your comments to Docket ID No. EPA-R06-OAR-2008-0727. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Ms. Dayana Medina, Air Planning Section (6PD-L), Environmental Protection Agency, Region 6, 1445 Ross Avenue, Suite 700, Dallas, Texas 75202-2733, telephone (214) 665-7241; fax number (214) 665-7263; email address medina.dayana@epa.gov.

SUPPLEMENTARY INFORMATION: Throughout this document wherever “we,” “us,” or “our” is used, we mean the EPA. On October 17, 2011, we published in the Federal Register a proposed rule proposing to partially approve and partially disapprove the Arkansas RH SIP and to partially approve and partially disapprove Arkansas' Interstate Transport SIP to address pollution affecting visibility (76 FR 64186). In the proposal we requested comment by November 16, 2011. The proposal and supporting documentation for our proposal can be accessed at http://www.regulations.gov (Docket No. EPA-R06-OAR-2008-0727).

The EPA is extending the comment period due to public requests that have been made stating that additional time is needed in order to fully evaluate our proposed rule and provide substantive comment. We are extending the comment period for our proposed rule until December 22, 2011.

Dated: November 9, 2011.
Carl E. Edlund,
Multimedia Planning and Permitting Division Director, Region 6.

[FR Doc. 2011-29724 Filed 11-15-11; 8:45 am]

BILLING CODE 6560-50-P